DEPARTMENT OF HOMELAND SECURITY

United States Secret Service

Submission for Review; Extension of Currently Approved Information Collection Requests

AGENCY: United States Secret Service (USSS), Department of Homeland Security.

ACTION: 30-day Notice and request for comments.

SUMMARY: The Department of Homeland Security (DHS) has submitted the following information collection requests (ICR) to the Office of Management and Budget (OMB) for review and clearance in accordance with the Paperwork Reduction Act of 1995: 1620-0001. The information collections were previously published in the Federal Register on June 15, 2006, at Vol. 71, No. 115, pages 34635 and 34636, allowing for OMB review and a 60-day public comment period. Comments received by DHS are being reviewed as applicable. This notice allows for an additional 30 days for public comments.

DATES: Comments are encouraged and will be accepted until September 22, 2006. This process is conducted in accordance with 5 CFR 1320.10.

Written comments and/or suggestions regarding the items contained in this notice should be directed to the Office of Management and Budget, Attn: Desk Office for Homeland Security, Office of Management and Budget, Room 10235, Washington, DC 20503; telephone (202) 395-7316.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: Requests for additional information or copies of the form(s) and instructions should be directed to: United States Secret Service, Security Clearance Division, Attn: Robin DeProspero-Philpot, Security Clearance Division, 950 H Street, NW., Washington, DC 20373-5824. Telephone number: (202) 406-5830.

SUPPLEMENTARY INFORMATION: Section 3506 of the Paperwork Reduction Act of 1995 (44 U.S.C. Chapter 35) requires each Federal agency to provide interested Federal agencies and the public an early opportunity to comment on information collection requests. The notice for this proposed information collection contains the following: (1) The name of the component of the U.S. Department of Homeland Security; (2) Type of review requested, e.g. new, revision, extension, existing or reinstatement; (3) OMB Control Number, if applicable; (4) Title; (5) Summary of the collection; (6) Description of the need for, and proposed use of, the information; (7) Respondents and frequency of collection; and (8) Reporting and/or Recordkeeping burden. The Department of Homeland Security invites public comment.

The Department of Homeland Security is especially interested in public comment addressing the following issues: (1) Is this collection necessary to the proper functions of the Department, including whether the information will have practical utility; (2) is the estimate of burden for this information collection accurate; (3) how might the Department enhance the quality, utility, and clarity of the information to be collected; and (4) how might the Department minimize the burden of this collection on the respondents, including through the use of information technology. All comments will become a matter of public record. In this document the U.S. Secret Service is soliciting comments concerning the following information collection:

Title: Supplemental Investigative Data.

OMB No.: 1620-0001.

Form Number: SSF 86A.

Abstract: Respondents are all Secret Service applicants. These applicants, if approved for hire, will require a Top Secret Clearance, and possible SCI Access. Responses to questions on the SSF 86A yields information necessary for the adjudication for eligibility of the clearance, as well as ensuring that the applicant meets all internal agency requirements.

Agency: Department of Homeland Security, United States Secret Service.

Frequency: On occasion.

Type of Review: Extension of a currently approved collection.

Affected Public: Individuals.

Estimated Number of Respondents: 10,000 respondents.

Estimated Time Per Respondent: 3 hour per response.

Total Burden Hours: 30,000.

Total Burden Cost: (Capital/startup): None.

Total Burden Cost: (Operating/maintaining): None.

Dated: August 17, 2006.
Sandy Bigley,
Forms Management Officer.

[FR Doc. 06-7102 Filed 8-22-06; 8:45 am]

BILLING CODE 4810-42-M